Title 3—

The President

Proclamation 10001 of March 31, 2020

Cancer Control Month, 2020

By the President of the United States of America

A Proclamation

During Cancer Control Month, we commend the unwavering courage of those across our country who are battling cancer and remember all who have been taken from us by this horrible disease. We also rejoice with the nearly 17 million cancer survivors in the United States who show us that victory over cancer is possible. We extend our sincere appreciation to the devoted healthcare professionals, scientists, and researchers who have committed their lives to discovering a cure for cancer.

While tremendous progress has been made in the fight against cancer, there is still much work to be done. Cancer remains the second-leading cause of death in the United States. Thanks to early detection, preventive measures, and medical innovation, survival rates for the most common cancer types—lung, colorectal, breast, and prostate—have vastly improved, providing much-needed hope to millions of patients and their families nationwide. Despite the decreasing death rate from cancer of nearly 30 percent over the last few decades, the disease claims the lives of roughly 1,600 Americans daily, resulting in nearly 600,000 deaths annually.

Research shows that a large proportion of cancers can be prevented, paving the way for millions of Americans to take charge of their lives by avoiding unhealthy behaviors and habits as well as commonly known carcinogens that can cause cancer. For example, the majority of melanoma cancer cases diagnosed annually could have been prevented by protecting skin from ultraviolet radiation through the use of sunscreen with sun protection factor 15 or higher and other preventive measures that shield skin from the sun's harmful rays. Moreover, tobacco products such as cigarettes and cigars are responsible for almost 9 out of every 10 cases of lung cancer. Preventive screenings, consulting your physician when detecting abnormalities, and awareness of family history can be the difference between life and death. That is why it is critical for Americans to see their doctors or healthcare providers regularly and stick to a healthy diet and routine physical activity.

My Administration is also working aggressively to protect our Nation's youth and ensure their lives are not shattered because of a cancer diagnosis. We initiated a new effort that invests $500 million over the next decade to improve pediatric cancer research. This funding will assist our Nation's most talented health professionals in learning more about the devastating cancer diagnoses our children face and finding the best cures. The National Institutes of Health has announced the Childhood Cancer Data Initiative, which supports childhood cancer research and aims to make it easier for researchers to learn from each of the approximately 16,000 children and adolescents diagnosed with cancer in the United States each year.

As we observe Cancer Control Month, we honor all those we have lost to cancer by renewing our commitment to raising awareness, emphasizing prevention and early detection, supporting innovative treatments, and prioritizing our health. By remaining steadfast in our dedication to taking preventative measures and finding a cure, we will one day defeat this disease.

NOW, THEREFORE, I, DONALD J. TRUMP, President of the United States of America, by virtue of the authority vested in me by the Constitution and the laws of the United States, do hereby proclaim April 2020 as Cancer Control Month. I call upon the people of the United States to speak with their doctors and healthcare providers to learn more about preventative measures that can save lives. I encourage citizens, government agencies, private businesses, nonprofit organizations, and other interested groups to join in appropriate activities that will increase awareness of what Americans can do to prevent and control cancer. I also invite the Governors of the States and Territories and officials of other areas subject to the jurisdiction of the United States to join me in recognizing Cancer Control Month.

IN WITNESS WHEREOF, I have hereunto set my hand this thirty-first day of March, in the year of our Lord two thousand twenty, and of the Independence of the United States of America the two hundred and forty-fourth.

[FR Doc. 2020-07299

Filed 4-3-20; 8:45 am]

Billing code 3295-F0-P